DEPARTMENT OF DEFENSE

Department of the Army

Proposed Collection; Comment Request

AGENCY: Department of the Army, DoD.

ACTION: Notice

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 25, 2005.

ADDRESSES: Written comments and recommendations on the proposed information collection should be sent to the Department of the Army, Military Surface Deployment and Distribution Command (SDDC), 200 Stovall Street, Alexandria, VA 22332-5000, ATTN: Leonell C. Strong, III.

FOR FURTHER INFORMATION CONTACT: To request more information on this proposed information collection or to obtain a copy of the proposal and associated collection instruments, please write to the above address, or call Department of the Army Reports Clearance Officer at (703) 325-8433.

Title and OMB Number: Industry Partnership Survey; OMB Number 0702-TBD.

Needs and Uses: SDDC will use the survey information to improve the efficiency, quality, and timeliness of its processes, as well as to strengthen its partnership with industry. Although the survey instruments are brief, with only basic information requested to measure satisfaction and to obtain feedback on areas that may require improvement, SDDC expects the data, comments, and suggestions offered by the respondents to help improve the performance of its systems and contain costs. Because the survey asks about the roles of SDDC employees, the responses will also help improve the SDDC exercise of project oversight responsibilities.

Affected Public: Business or other for profit.

Annual Burden Hours: 343.

Number of Respondents: 1,371.

Responses Per Respondent: 1.

Average Burden Per Response: 15 minutes.

Frequency: On occasion (14 month cycle).

SUPPLEMENTARY INFORMATION:

Summary of Information Collection

The SDDC provides global surface deployment command and control and distribution operations to meet National Security objectives in peace and war. To carry out its mission, SDDC works with industry partners in several program areas: Freight Domestic Distribution Program; Freight Global Distribution Program; Passenger Traffic Management Program; Personal Property Traffic Management Program. Most industry partners only provide services in one or two of the program areas, so the survey design provides for transparently skipping respondents only to the sections that are relevant to them. These voluntary partnership surveys will continue to be a collaborative effort to obtain feedback for improving the SDDC business processes.

Dated: December 17, 2004.
Patricia L. Toppings,
Alternate OSD Federal Register, Liaison Officer, Department of Defense.

[FR Doc. 04-28127 Filed 12-23-04; 8:45 am]

BILLING CODE 5001-06-M